Proclamation 7361 of October 10, 2000

General Pulaski Memorial Day, 2000

By the President of the United States of America

A Proclamation

Each year on October 11, we solemnly pause to honor the life and achievements of Casimir Pulaski, a true hero whose devotion to liberty has inspired the gratitude of the American people for more than 200 years.

Born to wealth and privilege in Poland, Pulaski sacrificed both by joining his father and brothers in the fight against tyranny and foreign oppression in his beloved homeland. His battlefield exploits earned him a leading position among Polish patriotic forces as well as renown and admiration throughout Europe. After years of braving insurmountable odds, however, Pulaski and his fellow freedom fighters were overwhelmed by enemy forces. Undaunted, he continued to battle for Poland's freedom while in exile in Turkey and France.

Impressed by Pulaski's military record and reverence for freedom, Benjamin Franklin wrote from his post in Paris to George Washington and succeeded in helping Pulaski secure a commission in the Continental Army. As a result of Pulaski's brave and able conduct at the battle of Brandywine Creek in 1777, the Continental Congress granted him a Brigadier General commission and the command of all Continental Army cavalry forces. For the next 2 years, General Pulaski contributed much to the American cause in the Revolutionary War through his battlefield expertise, mastery of cavalry tactics, and extraordinary courage. On October 9, 1779, Pulaski was gravely wounded at the siege of Savannah while leading patriot forces against fire from enemy batteries. He died 2 days later, far from his beloved homeland and mourned by the brave Americans whose cause he had made his own.

Today, as both the United States and Poland enjoy freedom and growing prosperity and look forward to a bright future as friends and NATO allies, we remember with profound appreciation Casimir Pulaski's resolve and sacrifice and the generations of Poles and Americans like him who valiantly fought to secure the peace and liberty we enjoy today.

NOW, THEREFORE, I, WILLIAM J. CLINTON, President of the United States of America, by virtue of the authority vested in me by the Constitution and laws of the United States, do hereby proclaim Wednesday, October 11, 2000, as General Pulaski Memorial Day. I encourage all Americans to commemorate this occasion with appropriate programs and activities.

IN WITNESS WHEREOF, I have hereunto set my hand this tenth day of October, in the year of our Lord two thousand, and of the Independence of the United States of America the two hundred and twenty-fifth.

wj

[FR Doc. 00-26540

Filed 10-12-00; 8:45 am]

Billing code 3195-01-P